FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding dates shown below:

License Number: 3777.

Name: J.G. International Freight Forwarding, Inc.

Address: 9949 N.W. 89th Avenue, Bay 17 and 18, Medley, FL 33178.

Date Revoked: May 6, 1999.

Reason: Failed to maintain a valid bond.

License Number: 11591NF.

Name: United Van Lines, Inc.

Address: One United Drive, Fenton, MO 63026.

Date Revoked: January 23, 2001.

Reason: Surrendered license voluntarily.

Sandra L. Kusumoto,
Director, Bureau of Consumer Complaints and Licensing.

[FR Doc. 01-7687 Filed 3-28-01; 8:45 am]

BILLING CODE 6730-01-P